DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 8, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program (SNAP) Forms: Applications, Periodic Reporting, and Notices Final Rulemaking: Supplemental Nutrition Assistance Program: 2008 Farm Bill Provisions on Clarification of Split Issuance; Accrual of Benefits and Definition Changes (RIN 0584-AE02).

OMB Control Number: 0584-NEW.

Summary of Collection: Food and Nutrition Service (FNS) Supplemental Nutrition Assistance Program (SNAP) to include the benefit off-line storage and expungement activities contained in the Final Rule “Supplemental Nutrition Assistance Program: 2008 Farm Bill Provisions on Clarification of Split Issuance; Accrual of Benefits and Definition Changes,” (85 FR 52025) published August 24, 2020, which implements benefit issuance provisions of the Food, Conservation and Energy Act of 2008, Public Law 110-234 (2008 Farm Bill) and the Agricultural Improvement Act of 2018, Public Law 115-334, (2018 Farm Bill). Both Farm Bills amended the Food and Nutrition Act of 2008 (the Act), which includes benefit issuance, storage, and expiration requirements for administering the program.

A subsequent interim final rule, titled “Supplemental Nutrition Assistance Program (SNAP): 2008 Farm Bill Provisions on Clarification of Split Issuance; Accrual of Benefits and Definition Changes: Delay of Implementation Date for Certain Provisions”, published July 29, 2021 (86 FR 40763), delayed from September 24, 2021, until September 24, 2022, the implementation date of certain provisions of the Final Rule. This included the provisions in 7 CFR 274.2(h) and 274.2(i)(1)-(3) regarding storage of benefits off-line and permanent expungement of unused benefits.

Need and Use of the Information: State agencies are responsible for issuing benefits to those households entitled to benefits under the Act. SNAP regulations at 7 CFR 274.2, require State agencies to send notices via mail to SNAP participants to inform them if their benefits are being moved off-line and if their benefits are about to be expunged. Notices are sent to the home address of SNAP individuals/households via United States Postal Service. Off-line storage notices are sent up to 10 days prior to or concurrent with benefits moving off-line, and expungement notices must be sent, at a minimum, 30 days prior to benefits being expunged. If a household contacts the State agency after the off-line notice has been sent or reapplies for SNAP benefits, the State agency must reinstate those benefits and make them available within 48 hours. Similarly, if a household follows the guidance in their expungement notice prior to the benefits being expunged, they can prevent expungement. If the household does not respond to the notice, the benefits will be moved off-line or expunged from their account.

Each notice is required to include specific information as outlined in SNAP Regulation 7 CFR 274.2(h)-(i). Off-line storage notices must include the steps necessary to bring the benefits back on-line and the State agency's permanent expungement policy. Expungement notices must be written in easily understandable plain language and include the date that benefit expungement will begin, the action needed to prevent the expungement, and the household's right to request a fair hearing.

Description of Respondents: 53 State, Local, or Tribal Government; 2,961,834 Individuals/Households.

Number of Respondents: 2,961,887.

Frequency of Responses: Recordkeeping; Reporting: On occasion; Annually.

Total Burden Hours: 163,970.49.

Dated: June 2, 2022.
Ruth Brown,
Departmental Information Collection Clearance Officer.

[FR Doc. 2022-12264 Filed 6-6-22; 8:45 am]

BILLING CODE 3410-30-P